DEPARTMENT OF COMMERCE

National Oceanic and Atmospheric Administration

[0648-XR003]

Marine Mammals; File No. 22835

AGENCY: National Marine Fisheries Service (NMFS), National Oceanic and Atmospheric Administration (NOAA), Commerce.

ACTION: Notice; receipt of application.

SUMMARY: Notice is hereby given that the Scripps Institute of Oceanography [Responsible Party: John Hildebrand, Ph.D.], University of California San Diego, 9500 Gilman Drive, La Jolla, CA 92093, has applied in due form for a permit to conduct research on 42 cetacean species, including endangered bowhead (Balaena mysticetus), blue (Balaenoptera musculus), fin (Balaenoptera physalus), sei (Balaenoptera borealis), Southern Resident killer (Orcinus orca), Hawaiian Islands Insular false killer (Pseudorca crassidens), humpback (Megaptera novaeangliae), North Pacific right (Eubalaena japonica), North Atlantic right (Eubalaena glacialis), sperm (Physeter macrocephalus), and Gulf of Mexico Bryde's (Balaenoptera edeni) whales.

DATES: Written, telefaxed, or email comments must be received on or before August 2, 2019.

ADDRESSES: The application and related documents are available for review by selecting “Records Open for Public Comment” from the “Features” box on the Applications and Permits for Protected Species (APPS) home page, https://apps.nmfs.noaa.gov, and then selecting File No. 22835 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Sara Young, (301) 427-8401.

SUPPLEMENTARY INFORMATION: The subject permit is requested under the authority of the Marine Mammal Protection Act of 1972, as amended (MMPA; 16 U.S.C. 1361 et seq.); the regulations governing the taking and importing of marine mammals (50 CFR part 216); the Endangered Species Act of 1973, as amended (ESA; 16 U.S.C. 1531 et seq.); and the regulations governing the taking, importing, and exporting of endangered and threatened species (50 CFR parts 222-226).

The applicant proposes to study 42 cetacean species or stocks in the Pacific, Arctic and Atlantic Oceans, and Gulf of Mexico for five years. The primary objectives are to (1) develop improved methods for determining baseline data on cetaceans, and in particular how sound may be used to study cetacean behavior, and (2) assess the potential effects of human impacts on cetacean behavior including anthropogenic noise and the Deepwater Horizon oil spill. Cetaceans would be approached during surveys from vessel and aerial platforms for the following procedures: Passive acoustic recordings, counts, observation, photo-identification, photogrammetry, biopsy or skin swabbing, sloughed skin collection, fecal sampling, and/or suction-cup tagging and subsequent tracking.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 28, 2019.
Julia Marie Harrison,
Chief, Permits and Conservation Division, Office of Protected Resources, National Marine Fisheries Service.

[FR Doc. 2019-14209 Filed 7-2-19; 8:45 am]

BILLING CODE 3510-22-P